DEPARTMENT OF HOMELAND SECURITY

Coast Guard

33 CFR Part 117

[CGD08-03-047]

Drawbridge Operation Regulations; Amite River, Clio, LA

AGENCY: Coast Guard, DHS.

ACTION: Notice of temporary deviation from regulations.

SUMMARY: The Commander, Eighth Coast Guard District, has issued a temporary deviation from the regulation governing the operation of the SR 22 Swing Span Bridge across the Amite River, mile 6.0, at Clio, Livingston Parish, Louisiana. This deviation allows the bridge to remain closed to navigation from December 15, 2003, through December 19, 2003. The deviation is necessary to allow for replacement of a hydraulic cylinder on the bridge.

DATES: This deviation is effective from 6 a.m. on December 15, 2003, through 6 p.m. on December 19, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: David Frank, Bridge Administration Branch, telephone (504) 589-2965.

SUPPLEMENTARY INFORMATION: The State of Louisiana, Department of Transportation and Development (LDOTD), has requested a temporary deviation from the requirements of 33 CFR 117.422(a) in order to replace a hydraulic cylinder on the swing span bridge across the Amite River, mile 6.0, at Clio, Livingston Parish, Louisiana. This maintenance is essential for the continued safe operation of the bridge. This temporary deviation will allow the bridge to remain in the closed-to-navigation position from 6 a.m. on Monday, December 15, 2003, until 6 p.m. on Friday, December 19, 2003. The bridge will open for emergencies during this time with delays for the mobilization of equipment to swing the bridge. No alternate routes are available. The vertical clearance of the bridge in the closed-to-navigation position is approximately 4 feet above mean high water.

Presently, the draw of the S22 bridge opens on signal if at least four hours advanced notice is given. Records indicate that requests for the bridge to open are infrequent with only two vessels requesting openings last December. Waterway users consist mainly of small recreational vessel. It has been determined that this closure will not have a significant effect on these vessels.

In accordance with 33 CFR 117.35(c), this work will be performed with all due speed in order to return the bridge to normal operation as soon as possible. This deviation from the operating regulations is authorized under 33 CFR 117.35.

Dated: November 18, 2003.
Marcus Redford,
Bridge Administrator.

[FR Doc. 03-29592 Filed 11-25-03; 8:45 am]

BILLING CODE 4910-15-P